DEPARTMENT OF THE TREASURY

Internal Revenue Service

Open Meeting of the Taxpayer Advocacy Panel's Tax Forms and Publications Project Committee: Correction

AGENCY: Internal Revenue Service (IRS), Treasury.

ACTION: Notice of meeting: Correction.

SUMMARY: In the Federal Register notice that was originally published on October 12, 2021, (Volume 86, Number 194, Page 56790) the day for this meeting has been corrected from Thursday to Wednesday, November 10, 2021 at 2:00 p.m. Eastern Time. All other meeting details remain unchanged.

DATES: The meeting will be held Wednesday, November 10, 2021.

FOR FURTHER INFORMATION CONTACT: Fred Smith at 1-888-912-1227 or (202) 317-3087.

SUPPLEMENTARY INFORMATION: Notice is hereby given pursuant to Section 10(a)(2) of the Federal Advisory Committee Act, 5 U.S.C. App. (1988) that a meeting of the Taxpayer Advocacy Panel's Tax Forms and Publications Project Committee will be held Wednesday, November 10, 2021 at 2:00 p.m. Eastern Time. The public is invited to make oral comments or submit written statements for consideration. Due to limited time and structure of meeting, notification of intent to participate must be made with Fred Smith. For more information please contact Fred Smith at 1-888-912-1227 or (202) 317-3087, or write TAP Office, 1111 Constitution Ave. NW, Room 1509, Washington, DC 20224 or contact us at the website: http://www.improveirs.org.

Dated: October 14, 2021.
Kevin Brown,
Acting Director, Taxpayer Advocacy Panel.

[FR Doc. 2021-22793 Filed 10-19-21; 8:45 am]

BILLING CODE 4830-01-P